DEPARTMENT OF COMMERCE

Census Bureau

Survey of Residential Alterations and Repairs

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 20, 2003.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Tamara Cole, U.S. Census Bureau, Room 2123, Building 4, Washington, DC 20233-1912, (301) 763-4665 (or via the Internet at tamara.a.cole@census.gov).

SUPPLEMENTARY INFORMATION:

I. Abstract

The Census Bureau is the preeminent collector and provider of timely, relevant, and quality data about the people and economy of the United States. Economic data are the Census Bureau's primary program commitment during nondecennial census years. The Census Bureau conducts surveys to estimate expenditures for residential improvement, including alterations and repairs. This segment of the economy amounted to more than $157 billion in 2001. Work done to rental or vacant residential properties is collected on the Survey of Residential Alterations and Repairs (SORAR) report form. The Consumer Expenditures Survey collects data for improvement and repairs to owner-occupied residential properties.

The Census Bureau publishes estimates from these two sources in the C50 Series, Expenditures for Residential Improvements and Repairs. These estimates are used by a variety of private businesses and trade associations for marketing studies, economic forecasts, and assessments of the remodeling and construction industries. They also help governments evaluate economic policy. For example, the Bureau of Economic Analysis uses these statistics to develop the structures component of gross private domestic investment in the national income and product accounts.

In an effort to make our data dissemination more timely, the survey will begin monthly data collection for the January 2004 survey month. Currently the survey is conducted quarterly. At the same time, to improve the scope of the survey, we will begin to collect expenditures for wall-to-wall carpeting and kitchen appliances. To reduce some of the respondent burden, we expect to decrease the number of improvement queries on the monthly form. For example, siding work done as an “alteration” and siding work done as a “major replacement” may be combined into one siding improvement category.

II. Method of Collection

The universe for this survey is the owners or designated representatives of the more than 40 million rental and vacant housing units in the United States. A sample of these owners, as identified in the Consumer Expenditure Survey, is mailed the SORAR-705 form. They are asked to report detailed alterations, improvement, and repair expenditures for their entire property.

When the survey begins monthly data collection, approximately 2,800 owners will be sampled each month. The sample design uses a rotation procedure which will bring one-twelfth of the sample (about 230 properties) into the survey each month and, conversely, take one-twelfth out each month. The data collected will continue to be adjusted for unreturned or unusable forms by region and metropolitan statistical area (MSA). The weights are adjusted so that sample counts of renter occupied and vacant housing units agree with independently derived controls from the Current Population Survey.

III. Data

OMB Number: 0607-0130.

Form Number: SORAR-705.

Type of Review: Regular Review.

Affected Public: Individuals or households, Businesses or Other for Profit, and State or Local Governments.

Estimated Number of Respondents: 2,800.

Estimated Time Per Response: .25 hours per month.

Estimated Total Annual Burden Hours: 8,400.

Estimated Total Annual Cost: The cost to the respondents is estimated to be $84,000.

Respondent's Obligation: Voluntary.

Legal Authority: Title 13, U.S.C. section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 15, 2003.
Madeleine Clayton,
Management Analyst, Office of the Chief Information Officer.

[FR Doc. 03-9678 Filed 4-18-03; 8:45 am]

BILLING CODE 3510-07-P